DEPARTMENT OF HEALTH AND HUMAN SERVICES

National Institutes of Health

Office of the Secretary; Notice of Meeting

Pursuant to section 1009 of the Federal Advisory Committee Act, as amended, notice is hereby given of the Interagency Autism Coordinating Committee.

This will be a hybrid meeting held in-person and virtually and will be open to the public as indicated below. Individuals who plan to attend in-person or view the virtual meeting and need special assistance or other accommodations should notify the Contact Person listed below at least seven (7) business days prior to the meeting. The meeting can be accessed from the NIH Videocast website (http://videocast.nih.gov/).

Name of Committee: Interagency Autism Coordinating Committee.

Date: July 10, 2024.

Time: 10:00 a.m. to 5:00 p.m.

Agenda: To discuss committee business, updates, and issues related to autism research and services activities.

Place: National Institute of Mental Health (NIMH), Neuroscience Center (NSC), 6001 Executive Boulevard, First Floor Conference Room, Rockville, MD 20852 (In Person and Virtual).

Cost: The meeting is free and open to the public.

Registration: A registration web link will be posted on the IACC website (www.iacc.hhs.gov) prior to the meeting. Pre-registration is recommended.

Deadlines: Public Comment Due Date: Monday, June 24, by 5:00 p.m. ET, Public Comment Guidelines, For public comment instructions, see below.

Contact Person: Ms. Rebecca Martin, Office of National Autism Coordination, National Institute of Mental Health, NIH, Phone: 301-435-0886, Email: IACCPublicInquiries@mail.nih.gov.

Public Comments: The IACC welcomes written and oral/virtual public comments from members of the autism community and asks the community to review and adhere to its Public Comment Guidelines. In the 2021-2023 IACC Strategic Plan, the IACC lists the “Spirit of Collaboration” as one of its core values, stating that, “We will treat others with respect, listen with open minds to the diverse lived experiences of people on the autism spectrum and their families, consider multiple solutions, and foster discussions where participants can comfortably share different opinions.” In keeping with this core value, the IACC and the NIMH Office of National Autism Coordination (ONAC) ask that members of the public who provide public comments or participate in meetings of the IACC also adhere to this core value.

A limited number of slots are available for individuals to provide a ~3-minute summary or excerpt of their written comment to the Committee during the meeting either in person or via videoconference. For those interested in that opportunity, please indicate “Interested in providing oral/virtual comment” in your written submission, along with your name, address, email, phone number, and professional/organizational affiliation so that ONAC staff can contact you if a slot is available.

For any given meeting, priority for comment slots will be given to individuals and organizations that have not previously provided comments in the current calendar year. This will help ensure that as many individuals and organizations as possible have an opportunity to share comments. Commenters going over their allotted 3-minute slot may be asked to conclude immediately in order to allow other comments and the rest of the meeting to proceed on schedule.

Public comment submissions received by 5:00 p.m. ET on Monday, June 24, 2024, will be provided to the Committee prior to the meeting for their consideration. Any written comments received after 5:00 p.m. ET, Monday, June 24, 2024, may be provided to the Committee either before or after the meeting, depending on the volume of comments received and the time required to process them in accordance with privacy regulations and other applicable Federal policies. The Committee is not able to respond individually to comments. All public comments become part of the public record. Attachments of copyrighted publications are not permitted, but web links or citations for any copyrighted works cited may be provided. For public comment guidelines, see: https://iacc.hhs.gov/meetings/public-comments/guidelines/.

Technical issues: If you experience any technical problems with the webcast, please email IACCPublicInquiries@mail.nih.gov.

Disability Accommodations: All IACC Full Committee Meetings provide Closed Captioning through the NIH videocast website. Individuals whose full participation in the meeting will require special accommodations (e.g., sign language or interpreting services, etc.) must submit a request to the Contact Person listed on the notice at least seven (7) business days prior to the meeting. Such requests should include a detailed description of the accommodation needed and a way for the IACC to contact the requester if more information is needed to fill the request. Special requests should be made at least seven (7) business days prior to the meeting; last-minute requests may be made but may not be possible to accommodate.

Security: During the check-in process, attendees will be asked to show one form of identification (for example, a government-issued photo ID, driver's license, or passport) and to state the purpose of their visit. Pre-registration is recommended. Seats will be on a first come, first served basis, with expedited check-in for those who are pre-registered. Meeting schedule subject to change.

More Information: Information about the IACC is available on the website: http://www.iacc.hhs.gov.

Dated: May 23, 2024.
David W. Freeman,
Supervisory Program Analyst, Office of Federal Advisory Committee Policy.

[FR Doc. 2024-11848 Filed 5-29-24; 8:45 am]

BILLING CODE 4140-01-P